SMALL BUSINESS ADMINISTRATION

Public Federal Regulatory Enforcement Fairness Hearing; Region IV Regulatory Fairness Board

The Small Business Administration Region IV Regulatory Fairness Board and the SBA Office of the National Ombudsman will hold a Public Hearing on Wednesday, October 6, 2004, at 8:30 a.m. at Wake Tech Community College, 600 New Waverly Place, Cary, NC 27511, phone (919) 851-5193, to receive comments and testimony from small business owners, small government entities, and small non-profit organizations concerning regulatory enforcement and compliance actions taken by Federal agencies.

Anyone wishing to attend or to make a presentation must contact Mike Ernandes in writing or by fax, in order to be put on the agenda. Mike Ernandes, Marketing & Outreach Specialist, SBA North Carolina District Office, 6302 Fairview Road, Suite 300, Charlotte, NC 28210, phone (704) 344-6588, fax (704) 344-6769, e-mail: mike.ernandes@sba.gov.

For more information, see our Web site at http://www.sba.gov/ombudsman.

Dated: September 21, 2004.
Peter Sorum,
Senior Advisor, Office of the National Ombudsman.

[FR Doc. 04-21544 Filed 9-24-04; 8:45 am]

BILLING CODE 8025-01-P